DEPARTMENT OF COMMERCE

National Oceanic and Atmospheric Administration

Notice on Engagement With the National Climate Assessment

AGENCY: The National Oceanic and Atmospheric Administration (NOAA) on behalf of the United States Global Change Research Program (USGCRP).

ACTION: Notice regarding availability of updates and public engagement opportunities for the fourth National Climate Assessment.

SUMMARY: The National Oceanic and Atmospheric Administration (NOAA) are publishing this notice on behalf of the United States Global Change Research Program (USGCRP) to clarify the processes and platforms for public engagement with the development of the fourth National Climate Assessment.

DATES: Updates will be offered continuously during the development phase of the National Climate Assessment.

ADDRESSES: Updates on the status of the Assessment and engagement opportunities will be provided via http://www.globalchange.gov/nca4. Public notices will be posted at http://www.globalchange.gov/notices, and updates on Assessment milestones will be posted at http://www.globalchange.gov/news.

FOR FURTHER INFORMATION CONTACT: USGCRP Contact: Katie Reeves; Telephone 202-419-3486; or email: kreeves@usgcrp.gov. NOAA Contact: Daniel Barrie; telephone 301-734-1256; or email: daniel.barrie@noaa.gov.

SUPPLEMENTARY INFORMATION:

Context: The U.S. Global Change Research Program (USGCRP) is mandated under the Global Change Research Act (GCRA) of 1990 to conduct a quadrennial National Climate Assessment (NCA). Under its current, updated decadal strategic plan (http://go.usa.gov/x9MCQ), USGCRP is building sustained assessment capacity. The sustained assessment supports the Nation's ability to understand, anticipate, and respond to risks and potential impacts brought about by global environmental change. Work on the fourth National Climate Assessment is currently underway.

To provide clarity on the process of developing the Assessment, and opportunities for community involvement, the USGCRP will be continually providing updates on the status of the Assessment and engagement opportunities via http://www.globalchange.gov/nca4. Public notices will be posted at http://www.globalchange.gov/notices, and updates on Assessment milestones will be posted at http://www.globalchange.gov/news.

Dated: March 15, 2017.
Dan Barrie,
Program Manager, Assessments Program, NOAA Climate Program Office.
Dated: March 21, 2017.
Paul Johnson,
Acting Deputy Chief Financial Officer/CAO, Office of Oceanic and Atmospheric Research, National Oceanic and Atmospheric Administration.

[FR Doc. 2017-06010 Filed 3-24-17; 8:45 am]

BILLING CODE P